NUCLEAR REGULATORY COMMISSION

[Docket No. 50-285]

Omaha Public Power District; Fort Calhoun Station, Unit No. 1; Environmental Assessment and Finding of No Significant Impact

The U.S. Nuclear Regulatory Commission (NRC) is considering issuance of an exemption from the requirements of Section III.G.1.b of Appendix R to Title 10 of the Code of Federal Regulations (10 CFR) Part 50, for Facility Operating License No. DPR-40, issued to Omaha Public Power District (OPPD, the licensee), for operation of the Fort Calhoun Station, Unit No. 1, located in Washington County, Nebraska. Therefore, as required by 10 CFR 51.21, the NRC is issuing this environmental assessment and finding of no significant impact.

Environmental Assessment

Identification of the Proposed Action

The proposed action would provide an exemption from the provisions of 10 CFR Part 50, Appendix R, Section III.G.1.b, for the 72-hour requirement to provide repair procedures and materials for cold shutdown capability for redundant cold shutdown components.

The proposed action is in accordance with the licensee's application dated February 4, 2008 (Agencywide Documents Access and Management System (ADAMS) Accession No. ML080360106), as supplemented by letter dated October 13, 2008 (ADAMS No. ML082980018).

The Need for the Proposed Action

The proposed action is needed to provide notification and clarification of the exemption granted by the NRC by letter dated July 3, 1985 (ADAMS Legacy Library Accession No. 850724390), in which the NRC granted an exemption from the technical requirements of Section III.G.2 of Appendix R to 10 CFR Part 50, for Fire Area 31 (intake structure building) and for the pull box area of the auxiliary building. The NRC safety evaluation report (SER) dated July 3, 1985, incorrectly referenced Section III.G.2 and subsequently provided exemption from 10 CFR Part 50, Section III.G. Specifically, the original SER and exemption should have referenced 10 CFR 50, Appendix R, Section III.G.1.b. In addition, cables in the duct bank and manhole vaults numbers 5 and 31 that are routed between the pull boxes and intake structure were not discussed in the OPPD exemption request dated August 30, 1983 (ADAMS Legacy Library Accession No. 830909011). Therefore, OPPD needs exemption from 10 CFR Part 50, Appendix R, III.G.1.b, for the cables in the duct bank and manhole vaults numbers 5 and 31 that are routed between the pull boxes and the intake structure building.

Environmental Impacts of the Proposed Action

The NRC has completed its safety evaluation of the proposed action and concludes that the consequences of postulated accidents are not increased, because there is no credible fire hazard in the area of the cable duct bank or manhole, which would disable all the raw water pumps and prevent the cold shutdown capability. Furthermore, if all raw water pumps are lost, due to any condition, the abnormal operating procedure directs the operator to trip the reactor and enter emergency procedures based on observed plant conditions. Therefore, there is no undue risk, since neither the probability nor the consequences have been increased, to public health and safety.

On the basis of its review and evaluation of the information provided in the licensee's exemption request and response to NRC staff request for additional information questions, the NRC staff concludes that OPPD's request for exemption from the technical requirements of Section III.G.1.b of Appendix R to 10 CFR Part 50 has provided a thorough description of the proposed change and adequate safety assessment which address the issue.

The details of the NRC staff's safety evaluation will be provided in the exemption that will be issued as part of the letter to the licensee approving the exemption to the regulation.

The proposed action will not significantly increase the probability or consequences of accidents. No changes are being made in the types of effluents that may be released offsite. There is no significant increase in the amount of any effluent released offsite. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resources than those previously considered in the Final Environmental Statement for the Fort Calhoun Station dated August 1972.

Agencies and Persons Consulted

In accordance with its stated policy, on November 26, 2008, the NRC staff consulted with the Nebraska State official, Julia Schmitt, of the Department of Health and Human Services Regulation and Licensure, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated February 4, 2008, as supplemented by letter dated October 13, 2008. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 23rd day of December 2008.
For the Nuclear Regulatory Commission.
Carl F. Lyon,
Project Manager, Plant Licensing Branch IV, Division of Operating Reactor Licensing, Office of Nuclear Reactor Regulation.

[FR Doc. E8-31162 Filed 12-30-08; 8:45 am]

BILLING CODE 7590-01-P